DEPARTMENT OF THE INTERIOR

Bureau of Indian Affairs

Renewal of Agency Information Collection for Certificate of Degree of Indian or Alaska Native Blood (CDIB); Request for Comments

AGENCIES: Bureau of Indian Affairs, Interior.

ACTION: Notice of Submission to the Office of Management and Budget.

SUMMARY: In compliance with the Paperwork Reduction Act of 1995, the Bureau of Indian Affairs (BIA) is seeking comments on renewal of the Office of Management and Budget (OMB) approval for the collection of information for the request for the Certificate of Degree of Indian or Alaska Native Blood (CDIB). The information collection is currently authorized by OMB Control Number 1076-0153, which expires on July 31, 2011.

DATES: Interested persons are invited to submit comments on or before August 29, 2011.

ADDRESSES: You may submit comments on the information collection to the Desk Officer for the Department of the Interior at the Office of Management and Budget, by facsimile to (202) 395-5806 or you may send an e-mail to: OIRA_DOCKET@ omb.eop.gov. Please send a copy of your comments to Debbie McBride, Acting Deputy Director—Office of Indian Services, Bureau of Indian Affairs, 1849 C Street, NW., MS 4513, Washington, DC 20240; e-mail Debbie.McBride@bia.gov.

FOR FURTHER INFORMATION CONTACT: De Springer (402) 878-2502. To see a copy of the entire collection submitted to OMB, go to http://www.reginfo.gov (select Information Collection Review, Currently Under Review).

SUPPLEMENTARY INFORMATION:

I. Abstract

BIA is seeking renewal of the approval for the information collection conducted under the numerous laws authorizing BIA to administer program services to Indians, provided that the individual possess a minimum degree of Indian or Alaska Native blood. When applying for program services authorized by these laws, an applicant must provide acceptable documentation to prove that he or she meets the minimum required degree of Indian or Alaska Native blood. Currently, the BIA certifies an individual's degree of Indian or Alaska Native blood if the individual can provide sufficient information to prove his or her identity and prove his or her descent from an Indian ancestor(s) listed on historic documents approved by the Secretary of the Interior that include blood degree information. To obtain the CDIB, the applicant must fill out an application form and provide supporting documents. BIA is seeking renewal of OMB approval to collect the information necessary to issue CDIBs. One minor non-substantive change is being made to the CDIB application form, to clarify where the applicant should submit the form.

II. Request for Comments

The BIA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. This information collection expires July 31, 2011.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0153.

Title: Request for Certificate of Degree of Indian or Alaska Native Blood.

Brief Description of Collection: Submission of this information allows BIA to verify the applicant's Indian ancestry and to determine the applicant's degree of Indian blood. The applicant will provide information, such as birth certificates, death certificates, and probates to document the applicant's descent from an Indian ancestor(s). Response to the information collection is required to obtain a benefit. BIA uses historic roll(s) or other documents that list the ancestors' name, gender, date of birth, date of death, blood degree and other identifying information to verify the applicant's descent. After the information and supporting documentation has been verified, BIA will issue a CDIB to the applicant. The applicant may use the CDIB to help document their eligibility for BIA programs and services. Other agencies may also rely on a CDIB as proof of eligibility for certain programs and services. CDIBs do not establish membership in an Indian tribe. A CDIB is not an enrollment document.

Type of Review: Extension without change of a currently approved collection.

Respondents: Individuals.

Number of Respondents: 154,980 per year, on average.

Total Number of Responses: 154,980 per year, on average.

Frequency of Response: Once.

Estimated Time per Response: 1.5 hours.

Estimated Total Annual Burden: 232,470 hours.

Estimated Cost Burden; $ 6,199,200.

Dated: July 20, 2011.
Alvin Foster,
Acting Chief Information Officer—Indian Affairs.

[FR Doc. 2011-19062 Filed 7-27-11; 8:45 am]

BILLING CODE 4310-4J-P